DEPARTMENT OF HOMELAND SECURITY

U.S. Citizenship and Immigration Services

[CIS No. 2455-08; DHS Docket No. USCIS-2008-0033]

RIN 1615-ZA72

Extension of the Designation of Honduras for Temporary Protected Status

AGENCY: U.S. Citizenship and Immigration Services, DHS.

ACTION: Notice.

SUMMARY: This Notice announces that the Secretary of Homeland Security has extended the designation of Honduras for temporary protected status (TPS) for 18 months, from its current expiration date of January 5, 2009 through July 5, 2010. This Notice also sets forth procedures necessary for nationals of Honduras (or aliens having no nationality who last habitually resided in Honduras) with TPS to re-register with U.S. Citizenship and Immigration Services (USCIS). Unlike the prior extension of TPS for Honduras, this Notice does not automatically extend previously issued employment authorization documents (EADs). Eligible TPS beneficiaries must apply to USCIS for extensions of their EADs, and pay the required application fee for such extensions, during the 60-day registration period. Re-registration is limited to persons who have previously registered with USCIS for TPS under the designation of Honduras and whose applications have been granted by or remain pending with USCIS. Certain nationals of Honduras (or aliens having no nationality who last habitually resided in Honduras) who have not previously applied to USCIS for TPS may be eligible to apply under the late initial registration provisions.

DATES: The extension of the TPS designation of Honduras is effective January 6, 2009, and will remain in effect through July 5, 2010. The 60-day re-registration period begins October 1, 2008, and will remain in effect until December 1, 2008. To facilitate processing of applications, applicants are strongly encouraged to file as soon as possible after the start of the 60-day re-registration period beginning on October 1, 2008.

FOR FURTHER INFORMATION CONTACT: Shelly Sweeney, Status and Family Branch, Office of Service Center Operations, U.S. Citizenship and Immigration Services, Department of Homeland Security, 20 Massachusetts Avenue, NW., 2nd Floor, Washington, DC 20529, telephone (202) 272-1533. This is not a toll-free call. Further information will also be available at local USCIS offices upon publication of this Notice and on the USCIS Web site at http://www.uscis.gov.

Note: The phone number provided here is solely for questions regarding this TPS Notice. It is not for individual case status inquiries. Applicants seeking information about the status of their individual cases can check Case Status Online available at the USCIS Web site listed above, or applicants may call the USCIS National Customer Service Center at 1-800-375-5283 (TTY 1-800-767-1833).

SUPPLEMENTARY INFORMATION:

Abbreviations and Terms Used in This Document

Act—Immigration and Nationality Act.

ASC—USCIS Application Support Center.

DHS—Department of Homeland Security.

EAD—Employment Authorization Document.

HSA—Homeland Security Act of 2002.

OSC—U.S. Department of Justice Office of Special Counsel for Immigration Related Unfair Employment Practices.

PRRAC—European Union's Regional Program for the Reconstruction of Central America.

Secretary—Secretary of Homeland Security.

TPS—Temporary Protected Status.

USCIS—U.S. Citizenship and Immigration Services.

What Is Temporary Protected Status?

TPS is an immigration status DHS grants to eligible nationals of designated countries or part of a designated country. During the period for which the Secretary of Homeland Security (Secretary) has designated a country for TPS, TPS beneficiaries are eligible to remain in the United States and may obtain work authorization. The granting of TPS does not lead to permanent resident status. When the Secretary terminates a country's TPS designation, beneficiaries return to the same immigration status they maintained before TPS (unless that status had since expired or been terminated) or to any other status they may have obtained while registered for TPS.

What authority does the Secretary of Homeland Security have to extend the designation of Honduras for TPS?

Section 244(b)(1) of the Immigration and Nationality Act (Act), 8 U.S.C. 1254a(b)(1), authorizes the Secretary, after consultation with appropriate agencies of the government, to designate a foreign State (or part thereof) for TPS.¹ The Secretary may then grant TPS to eligible nationals of that foreign State (or aliens having no nationality who last habitually resided in that State). Section 244(a)(1)(A) of the Act; 8 U.S.C. 1254a(a)(1)(A).

¹ As of March 1, 2003, in accordance with section 1517 of Title XV of the Homeland Security Act of 2002 (HSA), Public Law No. 107-296, 116 Stat. 2135, any reference to the Attorney General in a provision of the Immigration and Nationality Act describing functions which were transferred from the Attorney General or other Department of Justice official to the Department of Homeland Security by the HSA “shall be deemed to refer to the Secretary” of Homeland Security. See 6 U.S.C. 557 (2003) (codifying HSA, Title XV, § 1517).

At least 60 days before the expiration of a TPS designation, the Secretary, after consultations with appropriate agencies of the government, must review the conditions in a foreign State designated for TPS to determine whether the conditions for the TPS designation continue to be met and, if so, must determine the length of an extension of the TPS designation. Sections 244(b)(3)(A) and 244(b)(3)(C) of the Act, 8 U.S.C. 1254a(b)(3)(A) and (C). If the Secretary determines that the foreign State no longer meets the conditions for the TPS designation, he must terminate the designation. Section 244(b)(3)(B) of the Act, 8 U.S.C. 1254a(b)(3)(B).

The Secretary's determination to designate a country for TPS, or to extend or terminate such designation, is not subject to judicial review. Section 244(b)(5) of the Act, 8 U.S.C. 1254a(b)(5)(A).

Why was Honduras initially designated for TPS?

On January 5, 1999, the Attorney General published a Notice in the Federal Register, at 64 FR 524, designating Honduras for TPS due to the devastation resulting from Hurricane Mitch.

When was the TPS designation for Honduras extended?

The Attorney General and the Secretary of Homeland Security have extended the designation for Honduras seven times on the basis that the conditions warranting the January 5, 1999, designation continued to be met. See 65 FR 30438 (May 11, 2000); 66 FR 23269 (May 8, 2001); 67 FR 22451 (May 3, 2002); 68 FR 23744 (May 5, 2003); 69 FR 64084 (November 3, 2004); 71 FR 16328 (March 31, 2006); 72 FR 29529 (May 29, 2007).

Why is the Secretary extending the TPS designation for Honduras through July 5, 2010?

On June 23, 2008, the government of Honduras requested an extension of the TPS designation of Honduras. Over the past year, DHS and the Department of State have continued to review conditions in Honduras. Based on this review, DHS has determined that an 18-month extension is warranted because there continues to be a substantial, but temporary, disruption of living conditions in Honduras resulting from Hurricane Mitch, and Honduras remains unable, temporarily, to adequately handle the return of its nationals, as required for TPS designations based on this environmental disaster. Section 244(a)(b)(1)(B) of the Act; 8 U.S.C. 1254a(b)(1)(B).

It is estimated that Hurricane Mitch destroyed from 80,000 to over 200,000 dwellings in Honduras. By 2004, the United States Agency for International Development had completed construction of 6,100 permanent housing units to replace those destroyed by the hurricane. By 2005, nongovernmental organizations had repaired or built over 15,000 housing units. However, much of this housing still lacks water and electricity. The Honduran government said in May 2006 that more than 600,000 Hondurans live in areas that are at high risk of flooding. As of June 2008, the European Union's Regional Program for the Reconstruction of Central America (PRRAC) housing rehabilitation program is nearing completion. The PRRAC program for water projects costing $30 million is also nearing completion. However, the drinking water systems and supplies of many Honduran communities still remain contaminated.

Based upon this review, the Secretary has determined, after consultation with the appropriate government agencies, that the conditions that prompted the designation of Honduras for TPS continue to be met. See section 244(b)(3)(A) of the Act; 8 U.S.C. 1254a(b)(3)(A). There continues to be a substantial, but temporary, disruption in living conditions in Honduras as the result of an environmental disaster, and Honduras continues to be unable, temporarily, to adequately handle the return of its nationals. See section 244(b)(1)(B) of the Act. On the basis of these findings and determinations, the Secretary concludes that the designation of Honduras for TPS should be extended for an additional 18-month period. See section 244(b)(3)(C) of the Act, 8 U.S.C. 1254a(b)(3)(C). There are approximately 70,000 nationals of Honduras (or aliens having no nationality who last habitually resided in Honduras) who are eligible for TPS under this extended designation.

What actions should qualifying aliens take pursuant to this notice?

To maintain TPS, a national of Honduras (or an alien having no nationality who last habitually resided in Honduras) who was granted TPS and who has not had TPS withdrawn must re-register for TPS during the 60-day re-registration period from October 1, 2008 until December 1, 2008. To re-register, aliens must follow the filing procedures set forth in this Notice. An addendum to this Notice provides instructions on this extension, including filing and eligibility requirements for TPS and EADs. Information concerning the extension of the designation of Honduras for TPS also will be available at local USCIS offices upon publication of this Notice and on the USCIS Web site at http://www.uscis.gov.

Notice of Extension of the TPS Designation of Honduras

By the authority vested in me as Secretary of Homeland Security under section 244 of the Act, 8 U.S.C. 1254a, I have determined, after consultation with the appropriate government agencies, that the conditions that prompted the designation of Honduras for temporary protected status (TPS) on January 5, 1999, continue to be met. See section 244(b)(3)(A) of the Act, 8 U.S.C. 1254a(b)(3)(A). Accordingly, I am extending the TPS designation of Honduras for 18 months from January 6, 2009, through July 5, 2010.

Dated: August 29, 2008.
Michael Chertoff,
Secretary.

Temporary Protected Status Filing Requirements

Do I need to re-register for TPS if I currently have benefits through the designation of Honduras for TPS, and would like to maintain them?

Yes. If you already have received TPS benefits through the TPS designation of Honduras, your benefits will expire on January 5, 2009. All TPS beneficiaries must comply with the re-registration requirements, and submit any associated application fees or applications for waivers of the fees, described in this Notice in order to maintain TPS benefits through July 5, 2010. TPS benefits include temporary protection against removal from the United States and employment authorization during the TPS designation period. Section 244(a)(1) of the Act; 8 U.S.C. 1254a(a)(1). Failure to re-register without good cause will result in the withdrawal of your temporary protected status and possibly your removal from the United States. Section 244(c)(3)(C) of the Act; 8 U.S.C. 1254a(c)(3)(C).

If I am currently registered for TPS or have a pending application for TPS, how do I re-register to renew my benefits for the duration of the extension period?

Please submit the proper forms and fees according to Tables 1 and 2 below. The following are some helpful tips to keep in mind when completing your application:

• All applicants are strongly encouraged to pay close and careful attention when filling out the required forms to help ensure that their dates of birth, alien registration numbers, spelling of their names, and other required information is correctly entered on the forms.

• All questions on the required forms should be fully and completely answered. Failure to fully complete each required form may result in a delay in processing of your application.

• Aliens who have previously registered for TPS, but whose applications remain pending, should follow the filing instructions in this Notice if they wish to renew their TPS benefits.

• All TPS re-registration applications submitted without the required fees will be returned to applicants.

• All fee waiver requests should be filed in accordance with 8 CFR 244.20.

• If you received an EAD during the most recent registration period, please submit a photocopy of the front and back of your EAD.

Table 1—Application Forms and Application Fees
If | And | Then
You are re-registering for TPS | You are applying for an extension of your EAD valid through July 5, 2010 | You must complete and file the Form I-765, Application for Employment Authorization, with the fee of $340 or a fee waiver request. You must also submit Form I-821, Application for Temporary Protected Status, with no fee.
You are re-registering for TPS | You are NOT applying for renewal of your EAD | You must complete and file the Form I-765 with no fee and Form I-821 with no fee. Note: DO NOT check any box for the question “I am applying for” listed on Form I-765, as you are NOT requesting an EAD benefit.
You are applying for TPS as a late initial registrant (see below) and you are between the ages of 14 and 65 (inclusive) | You are applying for a TPS-related EAD | You must complete and file Form I-821 with the $50 fee or fee waiver request and Form I-765 with the fee of $340 or a fee waiver request.
You are applying for TPS as a late initial registrant and are under age 14 or over age 65 | You are applying for a TPS-related EAD | You must complete and file Form I-821 with the $50 fee or fee waiver request. You must also submit Form I-765 with no fee.
You are applying for TPS as a late initial registrant, regardless of age | You are NOT applying for an EAD | You must complete and file Form I-821 with the $50 fee or fee waiver request and Form I-765 with no fee.
Your previous TPS application is still pending | You are applying to renew your temporary treatment benefits (i.e., an EAD with category “C-19” on its face) | You must complete and file the Form I-765 with the fee of $340 or a fee waiver request. You must also submit Form I-821, with no fee.

Certain applicants must also submit a Biometric Service Fee (See Table 2).

Table 2—Biometric Service Fee
If | And | Then
You are 14 years of age or older | 1. You are re-registering for TPS, or 2. You are applying for TPS under the late initial registration provisions, or 3. Your TPS application is still pending and you are applying to renew temporary treatment benefits (i.e., EAD with category “C-19” on its face). | You must submit a Biometric Service fee of $80 or a fee waiver request.
You are younger than 14 years of age | 1. You are applying for an EAD, or 2. You are NOT applying for an EAD. | You do NOT need to submit a Biometric Service fee.

What edition of the Form I-821 and Form I-765 should I submit?

Only versions of Form I-821 dated October 17, 2007 (Rev. 10/17/07), or later, will be accepted. Only versions of Form I-765 dated May 27, 2008 (Rev. 5/27/08), or later, will be accepted. The revision date can be found in the bottom right corner of each form. The proper forms can be found on the Internet at http://www.uscis.gov or by calling the USCIS forms hotline at 1-800-870-3676.

Where should I submit my application for TPS?

Please reference Table 3 below to see where to mail your specific application.

Table 3—Application Mailing Directions
If | Then mail to | Or, for courier deliveries, mail to
You are applying for re-registration or applying to renew your temporary treatment benefits | U.S. Citizenship and Immigration Services, Attn: TPS Honduras, P.O. Box 6943, Chicago, IL 60680-6943 | U.S. Citizenship and Immigration Services, Attn: TPS Honduras, 131 S. Dearborn—3rd Floor, Chicago, IL 60603-5517.
You are applying for the first time as a late initial registrant | U.S. Citizenship and Immigration Services Attn: TPS Honduras, P.O. Box 8631, Chicago, IL 60680-8631 | U.S. Citizenship and Immigration Services, Attn: TPS Honduras [Additional Documents], 131 S. Dearborn—3rd Floor, Chicago, IL 60603-5517

If you were granted TPS by an Immigration Judge or the Board of Immigration Appeals you must submit evidence of the grant of TPS (such as an order from the Immigration Judge) with your application. In addition, when you receive your receipt notice (Form I-797) you will need to send an e-mail to Tpsijgrant.vsc@dhs.gov that includes the following information:

• Your name;

• Your date of birth;

• The receipt number for your re-registration;

• Your A-number; and

• The date you were granted TPS.

Please note that the e-mail address provided above is solely for re-registration applicants who were granted TPS by Immigration Judges and by the Board of Immigration Appeals to use to notify USCIS of their grants of TPS. It is not for individual case status inquiries. Applicants seeking information about the status of their individual cases can check Case Status Online available at the USCIS Web site, or applicants can call the USCIS National Customer Service Center.

Can I file my application electronically?

If you are filing for re-registration and do not need to submit supporting documentation (see Table 4) with your application, you may file your application electronically. To file your application electronically, follow directions on the USCIS Web site at: http://www.uscis.gov.

How will I know if I need to submit supporting documentation with my application package?

See Table 4 below to determine if you need to submit supporting documentation.

Table 4—Who Should Submit Supporting Documentation?
If | Then
One or more of the questions listed in Part 4, Question 2 of Form I-821 applies to you. | You must submit an explanation, on a separate sheet(s) of paper, and/or additional documentation must be provided.
You were granted TPS by an Immigration Judge or the Board of Immigration Appeals. | You must include evidence of the grant of TPS (such as an order from the Immigration Judge) with your application package.

How do I know if I am eligible for late registration?

You may be eligible for late initial registration under 8 CFR 244.2. In order to be eligible for late initial registration, you must:

(1) Be a national of Honduras (or an alien who has no nationality and who last habitually resided in Honduras);

(2) Have continuously resided in the United States since December 30, 1998;

(3) Have been continuously physically present in the United States since January 5, 1999; and

(4) Be both admissible as an immigrant, except as provided under section 244(c)(2)(A) of the Act, and not ineligible under section 244(c)(2)(B) of the Act.

Additionally, you must be able to demonstrate that during the registration period for the initial designation of TPS (January 5, 1999 to August 20, 1999), you:

(1) Were a nonimmigrant or had been granted voluntary departure status or any relief from removal;

(2) Had an application for change of status, adjustment of status, asylum, voluntary departure, or any relief from removal or change of status pending or subject to further review or appeal;

(3) Were a parolee or had a pending request for reparole; or

(4) Are the spouse or child of an alien currently eligible to be a TPS registrant.

An applicant for late initial registration must file an application for late registration no later than 60 days after the expiration or termination of the applicable condition(s) described above. See 8 CFR 244.2(g). All late initial registration applications for TPS, pursuant to the designation of Honduras, should be submitted to the appropriate address listed above in Table 3.

Are certain aliens ineligible for TPS?

Yes. There are certain criminal and terrorism-related inadmissibility grounds that render an alien ineligible for TPS. See section 244(c)(2)(A)(iii) of the Act; 8 U.S.C. 1254a(c)(2)(A)(iii). Further, aliens who have been convicted of any felony or two or more misdemeanors committed in the United States are ineligible for TPS under section 244(c)(2)(B)(i) of the Act, 8 U.S.C. 1254a(c)(2)(B)(i), as are aliens described in section 208(b)(2)(A) of the Act, 8 U.S.C. 1158(b)(2)(A) (describing bars to asylum). See section 244(c)(2)(B)(ii) of the Act; 8 U.S.C. 1254a(c)(2)(B)(ii).

If I currently have TPS, can I lose my TPS benefits?

TPS and related benefits will be withdrawn if you:

(1) Are not eligible for TPS,

(2) Fail to timely re-register for TPS without good cause, or

(3) Fail to maintain continuous physical presence in the United States. See sections 244(c)(3)(A)-(C) of the Act; 8 U.S.C. 1254a(c)(3)(A)-(C).

Does TPS lead to lawful permanent residence status?

No. TPS is a temporary benefit. Having been granted TPS does not, of itself, provide an alien with a basis for seeking lawful permanent resident status. A TPS beneficiary who wants to become a lawful permanent resident must qualify for this status based on a family relationship, employment classification, or other generally available basis for immigration, and must be otherwise admissible as an immigrant. The alien may need to go abroad to obtain an immigrant visa, if the alien is not eligible for adjustment of status. If the alien is subject to any ground of inadmissibility, the alien would need to obtain any necessary waiver in order to become a lawful permanent resident.

If I am currently covered under TPS, what status will I have if my country's TPS designation is terminated?

When a country's TPS designation is terminated, you will maintain the same immigration status, if any, that you held prior to obtaining TPS (unless that status has since expired or been terminated), or any other status you may have acquired while registered for TPS. Accordingly, if you held no lawful immigration status prior to being granted TPS and did not obtain any other status during the TPS period, you will revert to unlawful status upon the termination of the TPS designation. Once the Secretary determines that a TPS designation should be terminated, aliens who had TPS under that designation, and who do not hold any other lawful immigration status, must plan for their departure from the United States.

May I apply for another immigration benefit while registered for TPS?

Yes. Registration for TPS does not prevent you from applying for non-immigrant status, filing for adjustment of status based on an immigrant petition, or applying for any other immigration benefit or protection. Section 244(a)(5) of the Act; 8 U.S.C. 1254a(a)(5). For the purposes of change of status, and adjustment of status, each alien is considered to be in, and maintaining, lawful status as a nonimmigrant during the period in which he or she is granted TPS. See section 244(f)(4) of the Act; 8 U.S.C. 1254a(f)(4).

However, if an alien has periods of time when he or she had no lawful immigration status before, or after, the alien's time in TPS, those period(s) of unlawful presence may negatively affect that alien's ability to adjust to permanent resident status or attain other immigration benefits, depending on the circumstances of the specific case. See, e.g., section 212(a)(9) of the Act; 8 U.S.C. 1182(a)(9) (unlawful presence ground of inadmissibility that is triggered by a departure from the United States). In some cases, the unlawful presence ground of inadmissibility, or certain other grounds of inadmissibility, may be waived when an alien applies to adjust to permanent resident status or for another immigration status.

How does an application for TPS affect my application for asylum or other immigration benefits?

An application for TPS does not affect your application for asylum or any other immigration benefit. Denial of an application for asylum or any other immigration benefit does not affect an alien's TPS eligibility, although the grounds for denying one form of relief may also be grounds for denying TPS. For example, a person who has been convicted of a particularly serious crime is not eligible for asylum or TPS.

See sections 244(b)(2)(A)(ii) and 244(c)(2)(B)(ii) of the Act; 8 U.S.C. 1254a(b)(2)(A)(ii) and 8 U.S.C. 1254a(c)(2)(B)(ii).

Can nationals of Honduras (or aliens having no nationality who last habitually resided in Honduras) who entered the United States after December 30, 1998, file for TPS?

No. This extension does not expand TPS eligibility to those who are not currently eligible. To be eligible for benefits under this extension, nationals of Honduras (or aliens having no nationality who last habitually resided in Honduras) must have continuously resided in the United States since December 30, 1998, and have been continuously physically present in the United States since January 5, 1999. See section 244(c)(1) of the Act, 8 U.S.C 1254a(c)(1), also 64 FR 524 (January 5, 1999).

What documents should I bring to my ASC appointment?

TPS re-registrants will receive a notice in the mail with instructions as to whether or not they will be required to appear at a USCIS Application Support Center (ASC) for biometrics collection. To increase efficiency and improve customer service, whenever possible USCIS will reuse previously-captured biometrics and will conduct necessary security checks using those biometrics, such that you may not be required to appear at an ASC. Due to systems limitations, it may not be possible in every case to reuse biometrics.

However, even if you do not need to attend an ASC appointment, you are required to pay the separate biometrics fee or submit an appropriately supported fee waiver request. See 8 CFR 244.6. This fee will help cover the USCIS costs associated with use and maintenance of collected biometrics (such as fingerprints) for FBI and other background checks, identity verification, and document production.

If you are required to report to an ASC, you must bring the following documents:

(1) Your receipt notice for your re-registration application;

(2) Your ASC appointment notice; and

(3) Your current EAD.

Failure to appear at an ASC for a required ASC appointment will result in denial of your case due to abandonment unless you submit an address change notification (see instructions below) or a rescheduling request prior to your appointment.

If no further action is required for your case, you will receive a new EAD by mail valid through July 5, 2010. If your case requires further resolution, USCIS will contact you in writing to explain what additional information, if any, is necessary to resolve your case. If your application is subsequently approved, you will receive a new EAD in the mail with an expiration date of July 5, 2010.

What if my address changes after I file my re-registration application?

If your address changes after you file your application for re-registration, you must complete and submit Form AR-11 by mail or electronically. The mailing address is: U.S. Citizenship and Immigration Services, Change of Address, P.O. Box 7134, London, KY 40742-7134.

Form AR-11 can also be filed electronically by following the directions on the USCIS Web site at: http://www.uscis.gov. To facilitate processing your address change on your TPS application, you may call the USCIS National Customer Service Center at 1-800-375-5283 (TTY 1-800-767-1833) to request that your address be updated on your application. Please note that calling the USCIS National Customer Service Center does not relieve you of your burden to properly file a Form AR-11 with USCIS.

Will my current EAD that is set to expire on January 5, 2009, automatically be extended for six months?

No. This Notice does not automatically extend previously-issued EADs. DHS is announcing the extension of the TPS designation of Honduras and establishing the re-registration period at an early date to allow sufficient time for DHS to process EAD requests prior to the current January 5, 2009 EAD expiration date. You must file both your Form I-821 and Form I-765 during the 60-day re-registration period. Failure to apply during the re-registration period without good cause will result in a withdrawal of your TPS benefits. DHS strongly encourages you to file as early as possible within the re-registration period.

May I request an interim EAD at my local District Office?

No. USCIS will not issue interim EADs to TPS applicants and re-registrants at District Offices. Interim EADs may only be issued by the Vermont Service Center.

What documents may I show to my employer as proof of employment authorization and identity when completing Form I-9?

After January 5, 2009, a TPS beneficiary under TPS for Honduras who has timely re-registered with USCIS as directed under this Notice and obtained a new EAD may present his or her new valid EAD to his or her employer as proof of employment authorization and identity. Employers may not accept previously issued EADs that are no longer valid. Individuals also may present any other legally acceptable document or combination of documents listed on the Form I-9 as proof of identity and employment eligibility.

Note to Employers: Employers are reminded that the laws requiring employment eligibility verification and prohibiting unfair immigration-related employment practices remain in full force. This Notice does not supersede or in any way limit applicable employment verification rules and policy guidance, including those rules setting forth re-verification requirements. For questions, employers may call the USCIS Customer Assistance Office at 1-800-357-2099. Also, employers may call the U.S. Department of Justice Office of Special Counsel for Immigration Related Unfair Employment Practices (OSC) Employer Hotline at 1-800-255-8155. Additional information is available on the OSC Web site at http://www.usdoj.gov/crt/osc/index.html.

[FR Doc. E8-22972 Filed 9-30-08; 8:45 am]

BILLING CODE 9111-97-P